DEPARTMENT OF ENERGY

Federal Energy Regulatory Commission

Combined Notice of Filings

Take notice that the Commission has received the following Natural Gas Pipeline Rate and Refund Report filings:

Filings Instituting Proceedings

Docket Numbers: RP10-1398-000.

Applicants: El Paso Natural Gas Company.

Description: Report Filing: Refund Report.

Filed Date: 7/2/18.

Accession Number: 20180702-5164.

Comments Due: 5 p.m. ET 7/16/18.

Docket Numbers: RP15-1022-014.

Applicants: Alliance Pipeline L.P.

Description: Compliance filing Settlement—Gas Processing to be effective 8/1/2018.

Filed Date: 7/2/18.

Accession Number: 20180702-5001.

Comments Due: 5 p.m. ET 7/16/18.

Docket Numbers: RP18-861-001.

Applicants: Equitrans, L.P.

Description: Compliance filing Scheduling Priority Exemption for Reservation Charge Credits Compliance Filing to be effective 7/1/2018.

Filed Date: 7/2/18.

Accession Number: 20180702-5102.

Comments Due: 5 p.m. ET 7/16/18.

Docket Numbers: RP18-940-001.

Applicants: Empire Pipeline, Inc.

Description: Tariff Amendment: Errata Empire Rate Case—June 2018 to be effective 1/1/2019.

Filed Date: 7/2/18.

Accession Number: 20180702-5101.

Comments Due: 5 p.m. ET 7/16/18.

Docket Numbers: RP18-950-000.

Applicants: Dominion Energy Cove Point LNG, LP.

Description: Compliance filing DECP—2018 Penalty Revenue Distribution.

Filed Date: 7/2/18.

Accession Number: 20180702-5044.

Comments Due: 5 p.m. ET 7/16/18.

Docket Numbers: RP18-951-000.

Applicants: Dominion Energy Transmission, Inc.

Description: Compliance filing DETI—2018 Overrun and Penalty Revenue Distribution.

Filed Date: 7/2/18.

Accession Number: 20180702-5054.

Comments Due: 5 p.m. ET 7/16/18.

Docket Numbers: RP18-952-000.

Applicants: Equitrans, L.P.

Description: § 4(d) Rate Filing: Negotiated Capacity Release Agreements—7/1/2018 to be effective 7/1/2018.

Filed Date: 7/2/18.

Accession Number: 20180702-5127.

Comments Due: 5 p.m. ET 7/16/18.

Docket Numbers: RP18-953-000.

Applicants: Gulf South Pipeline Company, LP.

Description: § 4(d) Rate Filing: Negotiated Rate Agmt (Emera 49472) to be effective 7/2/2018.

Filed Date: 7/2/18.

Accession Number: 20180702-5251.

Comments Due: 5 p.m. ET 7/16/18.

Docket Numbers: RP18-954-000.

Applicants: Gulf South Pipeline Company, LP.

Description: § 4(d) Rate Filing: PermCapRel & CapRelNegRateAgmt (Pivotal 34691 >ETG 49785, then >So Jersey 49788) to be effective 7/1/2018.

Filed Date: 7/2/18.

Accession Number: 20180702-5259.

Comments Due: 5 p.m. ET 7/16/18.

Docket Numbers: RP18-955-000.

Applicants: Enable Mississippi River Transmission, LLC.

Description: § 4(d) Rate Filing: Negotiated Rate Filing—Ankor—July 1, 2018 #6032 to be effective 7/1/2018.

Filed Date: 7/2/18.

Accession Number: 20180702-5267.

Comments Due: 5 p.m. ET 7/16/18.

Docket Numbers: RP18-891-001.

Applicants: Eastern Shore Natural Gas Company.

Description: Tariff Amendment: Amended Non-Conforming Letter Agreements-Easton/CUC-MD to be effective 5/1/2018.

Filed Date: 7/3/18.

Accession Number: 20180703-5108.

Comments Due: 5 p.m. ET 7/16/18.

Docket Numbers: RP18-956-000.

Applicants: WTG Hugoton, LP.

Description: § 4(d) Rate Filing: Annual Fuel Retention Percentage Filing 2018-2019 to be effective 7/2/2018.

Filed Date: 7/3/18.

Accession Number: 20180703-5000.

Comments Due: 5 p.m. ET 7/16/18.

Docket Numbers: RP18-957-000.

Applicants: Midcontinent Express Pipeline LLC.

Description: § 4(d) Rate Filing: Chesapeake/BCE-Mach LLC Negotiated Rate to be effective 7/1/2018.

Filed Date: 7/3/18.

Accession Number: 20180703-5045.

Comments Due: 5 p.m. ET 7/16/18.

Docket Numbers: RP18-958-000.

Applicants: Rockies Express Pipeline LLC.

Description: § 4(d) Rate Filing: Neg Rate 2018-07-03 BP (2Ks) to be effective 7/4/2018.

Filed Date: 7/3/18.

Accession Number: 20180703-5117.

Comments Due: 5 p.m. ET 7/16/18.

Docket Numbers: RP18-959-000.

Applicants: Texas Eastern Transmission, LP.

Description: Compliance filing TETLP Notice Regarding Non-Jurisdictional Facilities.

Filed Date: 7/3/18.

Accession Number: 20180703-5158.

Comments Due: 5 p.m. ET 7/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2018.
Nathaniel J. Davis, Sr.,
Deputy Secretary.

[FR Doc. 2018-14832 Filed 7-10-18; 8:45 am]

BILLING CODE 6717-01-P